DEPARTMENT OF COMMERCE

National Oceanic and Atmospheric Administration

50 CFR Part 679

[Docket No. 250312-0037; RTID 0648-XF307]

Fisheries of the Exclusive Economic Zone Off Alaska; Demersal Shelf Rockfish in the Western, Central, and West Yakutat Regulatory Areas of the Gulf of Alaska

AGENCY: National Marine Fisheries Service (NMFS), National Oceanic and Atmospheric Administration (NOAA), Commerce.

ACTION: Temporary rule; closure.

SUMMARY: NMFS is prohibiting retention of demersal shelf rockfish in the Western, Central, and West Yakutat Regulatory Areas of the Gulf of Alaska (GOA). This action is necessary because the 2025 total allowable catch (TAC) of demersal shelf rockfish in the Western, Central, and West Yakutat Regulatory Areas of the GOA has been or will be reached.

DATES: Effective 1200 hours, Alaska local time (A.l.t.), December 4, 2025, through 2400 hours, A.l.t., December 31, 2025.

FOR FURTHER INFORMATION CONTACT: Adam Zaleski, 907-586-7228.

SUPPLEMENTARY INFORMATION: NMFS manages the groundfish fishery in the GOA exclusive economic zone according to the Fishery Management Plan for Groundfish of the Gulf of Alaska (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 TAC of demersal shelf rockfish in the Western, Central, and West Yakutat Regulatory Areas of the GOA is 271 metric tons as established by the final 2025 and 2026 harvest specifications for groundfish of the GOA (90 FR 12468, March 18, 2025).

In accordance with § 679.20(d)(2), the Administrator, Alaska Region, NMFS, has determined that the 2025 demersal shelf rockfish TAC in the Western, Central, and West Yakutat Regulatory Areas of the GOA has been or will be reached. Therefore, NMFS is prohibiting retention of demersal shelf rockfish in the Western, Central, and West Yakutat Regulatory Areas of the GOA and requiring that demersal shelf rockfish in the Western, Central, and West Yakutat Regulatory Areas of the GOA be treated in the same manner as a prohibited species in accordance with § 679.21(a)(2) for the remainder of the year, except for demersal shelf rockfish in the Western, Central, and West Yakutat Regulatory Areas of the GOA caught by catcher vessels using hook-and-line, pot, or jig gear as described in § 679.20(j) or caught by catcher vessels using trawl gear participating in the electronic monitoring program as described in § 679.21(a)(2). This action is necessary to prevent exceeding the 2025 TAC of demersal shelf rockfish in the Western, Central, and West Yakutat Regulatory Areas of the GOA.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data on demersal shelf rockfish catch in a timely fashion and would delay prohibiting retention of demersal shelf rockfish in the Western, Central, and West Yakutat Regulatory Areas of the GOA. NMFS was unable to publish a notice providing time for public comment because the most recent, relevant data on demersal shelf rockfish catch only became available as of December 3, 2025.

There is good cause under 5 U.S.C. 553(d)(3) to waive the 30-day delay in the effective date of this action. This finding is based upon the reasons provided above for waiver of prior notice and opportunity for public comment.

Authority: 16 U.S.C. 1801 et seq.

Dated: December 3, 2025.
Kelly Denit,
Director, Office of Sustainable Fisheries, National Marine Fisheries Service.

[FR Doc. 2025-22141 Filed 12-4-25; 8:45 am]

BILLING CODE 3510-22-P